ENVIRONMENTAL PROTECTION AGENCY

[EPA-HQ-OAR-2015-0072; FRL-8635-03-OAR]

Release of the Draft Policy Assessment for the Particulate Matter National Ambient Air Quality Standards

AGENCY: Environmental Protection Agency (EPA).

ACTION: Notice of availability.

SUMMARY: On or about October 8, 2021, the Environmental Protection Agency (EPA) will make available for public comment a draft document titled, Policy Assessment for Reconsideration of the National Ambient Air Quality Standards for Particulate Matter, External Review Draft (Draft PA). This draft document was prepared as a part of the current reconsideration of the 2020 final decision on the National Ambient Air Quality Standards (NAAQS) for Particulate Matter (PM). When final, the PA is intended to “bridge the gap” between the scientific and technical information assessed in the 2019 Integrated Science Assessment for Particulate Matter (2019 ISA) and Supplement to the 2019 Integrated Science Assessment for Particulate Matter (ISA Supplement) and the judgments required of the Administrator in determining whether to retain or revise the existing PM NAAQS.

DATES: Comments must be received on or before December 14, 2021.

ADDRESSES: You may send comments, identified by Docket ID No. EPA-HQ-OAR-2015-0072, by any of the following methods:

• Federal eRulemaking Portal: https://www.regulations.gov/ (our preferred method). Follow the online instructions for submitting comments.

• Mail: U.S. Environmental Protection Agency, EPA Docket Center, Office of Air and Radiation Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Instructions: All submissions received must include the Docket ID No. for this notice. Comments received may be posted without change to https://www.regulations.gov, including any personal information provided. For detailed instructions on sending comments, see the SUPPLEMENTARY INFORMATION section of this document. This document will be available on the EPA's website at https://www.epa.gov/naaqs/particulate-matter-pm-air-quality-standards. The document will be accessible under “Policy Assessments” from the current review.

FOR FURTHER INFORMATION CONTACT: Dr. Lars Perlmutt, Office of Air Quality Planning and Standards, (Mail Code C539-04), U.S. Environmental Protection Agency, Research Triangle Park, NC 27711; telephone number: 919-541-3037, fax number: 919-541-5315; or email: perlmutt.lars@epa.gov.

SUPPLEMENTARY INFORMATION:

I. General Information

Written Comments

Submit your comments, identified by Docket ID No. EPA-HQ-OAR-2015-0072, at https://www.regulations.gov (our preferred method), or the other methods identified in the ADDRESSES section. Once submitted, comments cannot be edited or removed from the docket.The EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Due to public health concerns, the EPA Docket Center and Reading Room are open to the public by appointment only. Our Docket Center staff continues to provide remote customer service via email, phone, and webform. Hand deliveries or couriers will be received by scheduled appointment only. For further information and updates on EPA Docket Center services, please visit us online at https://www.epa.gov/dockets.

II. Information About the Document

Two sections of the Clean Air Act (CAA or the Act) govern the establishment and revision of the NAAQS. Section 108 directs the Administrator to identify and list certain air pollutants and then issue “air quality criteria” for those pollutants. The air quality criteria are to “accurately reflect the latest scientific knowledge useful in indicating the kind and extent of all identifiable effects on public health or welfare which may be expected from the presence of such pollutant in the ambient air . . .” (CAA section 108(a)(2)). Under section 109 of the Act, the EPA is then to establish primary (health-based) and secondary (welfare-based) NAAQS for each pollutant for which the EPA has issued air quality criteria. Section 109(d)(1) of the Act requires periodic review and, if appropriate, revision of existing air quality criteria. Revised air quality criteria are to reflect advances in scientific knowledge on the effects of the pollutant on public health and welfare. Under the same provision, the EPA is also to periodically review and, if appropriate, revise the NAAQS, based on the revised air quality criteria.

The Act additionally requires appointment of an independent scientific review committee that is to periodically review the existing air quality criteria and NAAQS and to recommend any new standards and revisions of existing criteria and standards as may be appropriate (CAA section 109(d)(2)(A)-(B)). Since the early 1980s, the requirement for an independent scientific review committee has been fulfilled by the Clean Air Scientific Advisory Committee (CASAC).

In December 2020, the EPA announced its final decision to retain the primary and secondary PM2.5 and PM10 standards, without revision (85 FR 82684, December 18, 2020).¹ On June 10, 2021, the Agency announced its decision to reconsider the 2020 p.m. NAAQS final action.² In its announcement of the reconsideration of the PM NAAQS, the Agency explained that, in support of the reconsideration, it would develop an ISA Supplement and an updated PA. A draft of the ISA Supplement was released in September 2021, for public comment and review by the CASAC. The PA, when final, serves to “bridge the gap” between the scientific and technical information in the 2019 ISA and ISA Supplement and any air quality, exposure and risk analyses available in the reconsideration, and the judgments required of the Administrator in determining whether to retain or revise the existing PM NAAQS. The draft PA builds upon the information presented in the 2019 ISA, the ISA Supplement, and the 2020 PA. The draft PA document will be available on or about October 8, 2021, on the EPA's website at https://www.epa.gov/naaqs/particulate-matter-pm-air-quality-standards. The EPA is soliciting advice and recommendations from the CASAC by means of a review of this draft document at an upcoming public meeting of the CASAC. Information about this public meeting, including the dates and location, will be published as a separate notice in the Federal Register. Following the CASAC meeting, the EPA will consider comments received from the CASAC and the public in preparing revisions to this document.

¹ Other welfare effects of PM, such as ecological effects, are being considered in the separate, on-going review of the secondary NAAQS for oxides of nitrogen and oxides of sulfur. Accordingly, the public welfare protection provided by the secondary PM standards against ecological effects such as those related to deposition of nitrogen- and sulfur-containing compounds in vulnerable ecosystems is being considered in that separate review.

² The press release for this announcement is available at: https://www.epa.gov/newsreleases/epa-reexamine-health-standards-harmful-soot-previous-administration-left-unchanged.

The draft document briefly described above does not represent and should not be construed to represent any final EPA policy, viewpoint, or determination. The EPA will consider any public comments submitted in response to this notice when revising the document.

Dated: October 5, 2021.
Panagiotis Tsirigotis,
Director, Office of Air Quality Planning and Standards.

[FR Doc. 2021-22067 Filed 10-7-21; 8:45 am]

BILLING CODE 6560-50-P